COMMITTEE FOR PURCHASE FROM PEOPLE WHO ARE BLIND OR SEVERELY DISABLED

Agency Information Collection Activities; Proposed Information Collection; Comment Request

AGENCY: Committee for Purchase From People Who Are Blind or Severely Disabled.

ACTION: 60-day notice, proposed collection; comment request.

Title: Nonprofit Agency Responsibilities, 3037-0005.

SUMMARY: The Committee for Purchase From People Who Are Blind or Severely Disabled is announcing an opportunity for public comment on the proposed collection of certain information by the agency. Under the Paperwork Reduction Act of 1995, Federal agencies are required to publish notice in the Federal Register concerning each proposed collection of information, and to allow 60 days for public comment in response to the notice. This notice solicits comments on requirements relating to the record keeping requirements of nonprofit agencies serving people who are blind or severely disabled.

DATES: Submit comments on or before August 27, 2002.

ADDRESSES: Comments and requests for copies of the proposed information collection instruments should be submitted to: Janet Yandik, Information Management Specialist, Committee for Purchase From People Who Are Blind or Severely Disabled, Jefferson Plaza 2, Suite 10800, 1421 Jefferson Davis Highway, Arlington, VA 22202-3259; e-mail: jyandik@jwod.gov; phone: (703) 603-7746, fax (703) 603-0655.

SUPPLEMENTARY INFORMATION: The Committee imposes certain requirements on nonprofit agencies that participate in the Javits-Wagner-O'Day (JWOD) Program. The requirements being proposed are recordkeeping for specific products and services sold under the JWOD Act. This is a change in current requirements that only require records be kept and reported in the aggregate, rather than by specific JWOD product or service. If approved, recordkeeping shall reflect dollar sales of each product and service sold under the authority of JWOD Act, direct labor hours performed by all workers on each product and service sold under the JWOD Act, and files which document the disability and competitive employability of each worker counted toward the nonprofit agencies' ratio of disabled direct labor. Such records and files are required to ensure the effective administration of the JWOD Program and to ensure that nonprofit agencies seeking to participate in the Committee's program meet the requirements of 41 U.S.C. 46-48(c).

Sheryl D. Kennerly,
Director, Information Management.

[FR Doc. 02-16355 Filed 6-27-02; 8:45 am]

BILLING CODE 6353-01-P